NATIONAL ARCHIVES AND RECORDS ADMINISTRATION

[NARA-2014-011]

Proposed Disposal of George H.W. Bush and Clinton Administration Electronic Backup Tapes

AGENCY: Office of Presidential Libraries, National Archives and Records Administration (NARA).

ACTION: Presidential Records Act notice of proposed disposal of George H.W. Bush and Clinton Administration Disaster Recovery Backup Tapes; final agency action.

SUMMARY: The National Archives and Records Administration (NARA) is issuing this final notice to dispose of a collection of disaster recovery backup tapes from the George H.W. Bush and Clinton administrations under the provisions of 44 U.S.C. 2203(f)(3). The notice of proposed disposal of this collection of disaster recovery backup tapes was published in the Federal Register on June 28, 2013 (78 FR 125, p. 39016), and contains a detailed description of this issue. NARA received no comments on the proposed notice, and is therefore proceeding with this notice of final agency action.

DATES: This notice will be effective and the disposal will occur on or after February 18, 2014.

FOR FURTHER INFORMATION CONTACT: Director of Presidential Libraries Susan K. Donius; National Archives and Records Administration, Suite 2200; 8601 Adelphi Road; College Park, Maryland 20740-6001; by telephone at 301-837-3250; by fax to 301-837-3199; or by email to beth.fidler@nara.gov.

SUPPLEMENTARY INFORMATION: NARA published a “Presidential Records Act notice of Proposed Disposal of George H.W. Bush and Clinton Administration Electronic Backup Tapes” on June 28, 2013, in the Federal Register (78 FR 125) for a 45 day comment period. NARA received no written comments.

NARA has determined that further retention of these disaster recovery backup tapes is not warranted. The Presidential and Federal electronic mail with attachments, pager, and calendar records residing on these backup tapes were previously restored and NARA will permanently retain those Presidential and Federal records on a different set of electronic media. Because the backup tapes proposed for disposal were made for disaster recovery purposes and the restoration project was completed in 1996, NARA is following the normal disposal processes established in General Records Schedules 20 and 24 for Federal record backup tapes.

NARA will proceed to dispose of 22,907 All-In-One backup tapes created during the George H.W. Bush and Clinton Administrations by OA staff as specified in the February 18, 2014 of this notice, because NARA has determined that they lack sufficient administrative, historical, informational, or evidentiary value. This notice constitutes NARA's final agency action pursuant to 44 U.S.C. 2203(f)(3).

Dated: December 16, 2013.
David S. Ferriero,
Archivist of the United States.

[FR Doc. 2013-30371 Filed 12-19-13; 8:45 am]

BILLING CODE 7515-01-P